FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 1, 2009.

A. Federal Reserve Bank of Chicago (Colette A. Fried, Assistant Vice President) 230 South LaSalle Street, Chicago, Illinois 60690-1414:

1. The Pletsch Family which consists of Ronald L. Pletsch, individually and as trustee of the Robert L. Pletsch Trust and Robert L. Pletsch FBO Trust; Sharon L. Johnson, individually and as trustee of the Sharon L. Johnson FBO Trust; and Marilyn A. Pletsch, all of McNabb, Illinois; and Roger A. Pletsch, Lostant, Illinois; as a group acting in concert to retain control Tonica Bancorp, Inc., Tonica, Illinois, and thereby indirectly retain control of Illini State Bank, Oglesby, Illinois.

B. Federal Reserve Bank of St. Louis (Glenda Wilson, Community Affairs Officer) P.O. Box 442, St. Louis, Missouri 63166-2034:

1. James M. Smith, Jackson, Tennessee; to acquire voting shares of Tennessee Central Bancshares, Inc., and thereby indirectly acquire voting shares of Community South Bank, both of Parsons, Tennessee.

Board of Governors of the Federal Reserve System, May 12, 2009.
Robert deV. Frierson,
Deputy Secretary of the Board.

[FR Doc. E9-11438 Filed 5-15-09; 8:45 am]

BILLING CODE 6210-01-S